DEPARTMENT OF LABOR

Employment and Training Administration

[TA-W-70,027]

Ram Rod Industries, LLC, Prentice, WI; Notice of Revised Determination Certification Regarding Eligibility To Apply for Worker Adjustment Assistance

In accordance with section 223 of the Trade Act of 1974, as amended (“Act”), 19 U.S.C. 2273, the Department of Labor herein presents the results of an investigation regarding certification of eligibility to apply for worker adjustment assistance.

The group eligibility requirements for workers of a Firm under section 222(a) of the Act, 19 U.S.C. 2272(a), are satisfied if the following criteria are met:

(1) a significant number or proportion of the workers in such workers' firm have become totally or partially separated, or are threatened to become totally or partially separated; and

(2)(A)(i) the sales or production, or both, of such firm have decreased absolutely; and

(ii)(I) imports of articles or services like or directly competitive with articles produced or services supplied by such firm have increased; and

(iii) the increase in imports described in clause (ii) contributed importantly to such workers' separation or threat of separation and to the decline in the sales or production of such firm.

On September 21, 2009, workers of the subject firm were denied eligibility to apply for TAA benefits. Additional information has prompted the Department of Labor to issue this revised determination. Consequently, the Department has decided to issue a revised determination based on an internal reconsideration of the original findings.

Further investigation revealed that workers of Ramrod Industries, who are engaged in employment related to the production of hydraulic cylinders, meet the criteria for certification.

Section 222(a)(1) has been met because at least five percent of workers have been separated during the relevant period.

Section 222(a)(2)(A)(ii) has been met because imports of articles or services like or directly competitive with the hydraulic cylinders produced by Ramrod Industries have increased. Specifically, one of the firm's major customers has sharply increased imports of goods like or directly competitive with those produced at Ramrod's Spencer location.

In addition, United States aggregate imports of hydraulic cylinders for consumption increased significantly in 2008.

Finally, Section 222(a)(2)(A)(iii) has been met because the increased imports of hydraulic cylinders by customers of Ramrod Industries contributed importantly to the worker group separations and sales/production declines at Ramrod Industries.

All workers of Ramrod Industries LLC, Prentice, Wisconsin, who became totally or partially separated from employment on or after May 19, 2008, through two years from the date of certification, and all workers in the group threatened with total or partial separation from employment on the date of certification through two years from the date of certification, are eligible to apply for adjustment assistance under Chapter 2 of Title II of the Trade Act of 1974, as amended.

Signed in Washington, DC, this 27th day of January, 2010.
Richard Church,
Certifying Officer, Division of Trade Adjustment Assistance.

[FR Doc. 2010-7322 Filed 3-31-10; 8:45 am]

BILLING CODE 4510-FN-P